DEPARTMENT OF HOUSING AND URBAN DEVELOPMENT

[Docket No. FR-5100-FA-08]

Announcement of Funding Awards for the Community Development Technical Assistance Programs Fiscal Year 2007

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Community Development Technical Assistance programs. This announcement contains the names of the awardees and the amounts of the awards made available by HUD.

FOR FURTHER INFORMATION CONTACT: Mark A. Horwath, Director, Office of Technical Assistance and Management, Office of Community Planning and Development, 451 Seventh Street, SW., Room 7218, Washington, DC 20410-7000; telephone (202) 402-2576 (this is not a toll-free number). Hearing- and speech-impaired persons may access this number via TTY by calling the Federal Relay Service toll-free at (800) 877-8339. For general information on this and other HUD programs, call Community Connections at 1-800-998-9999 or visit the HUD Web site at http://www.hud.gov.

SUPPLEMENTARY INFORMATION: The Fiscal Year 2007 Community Development Technical Assistance program was designed to increase the effectiveness of HUD's HOME Investment Partnerships Program (HOME), CHDO (HOME) program, McKinney-Vento Homeless Assistance programs (Homeless), and Housing Opportunities for Persons with AIDS (HOPWA) program through the selection of technical assistance (TA) providers for these four programs.

The competition was announced in the SuperNOFA published March 13, 2007 (72 FR 11434). The CD-TA NOFA was extended on May 11, 2007 (72 FR 27032) and closed on June 22, 2007. The NOFA allowed for approximately $25.4 million for CD-TA grants. Applications were rated and selected for funding on the basis of selection criteria contained in that Notice. For the Fiscal Year 2007 competition, 58 awards, totaling $20,683,017 were awarded to 42 distinct technical assistance providers nationwide.

In accordance with section 102(a)(4)(C) of the Department of Housing and Urban Development Reform Act of 1989 (103 Stat. 1987, 42 U.S.C. 3545), the Department is publishing the grantees and the amounts of the awards in Appendix A to this document.

Dated: June 11, 2008.
Nelson R. Bregón,
General Deputy Assistant Secretary for Community Planning and Development.

Appendix A

Fiscal Year 2007 Funding Awards for Community Development Technical Assistance Programs
Recipient | State | Amount
State of Alaska Housing Finance Corporation | AK | $50,000
Rural Community Assistance Corporation | CA | 560,000
Housing Assistance Council | DC | 699,000
National Council on Agricultural Life & Labor Research Fund | DE | 125,000
Housing Action of Illinois | IL | 100,000
Indiana Association for Community Economic Development | IN | 75,000
Homeless & Housing Coalition of Kentucky | KY | 150,000
Community Economic Development Assistance Corporation (CEDAC) | MA | 150,000
Enterprise Community Partners | MD | 561,502
Michigan State Housing Development Authority | MI | 225,000
Minnesota Housing Partnership | MN | 140,000
Training & Development Associates, Inc | NC | 1,600,000
Housing and Community Development Network of New Jersey | NJ | 75,000
Local Initiatives Support Corporation | NY | 571,000
Structured Employment Economic Development Corporation (SEEDCO) | NY | 350,000
Ohio Capital Corporation for Housing | OH | 160,000
Ohio CDC Association | OH | 30,000
Neighborhood Partnership Fund | OR | 35,000
Puerto Rico Community Foundation | PR | 100,000
Community Frameworks (aka Northwest Regional Facilitators) | WA | 40,000
Urban Economic Development Association of Wisconsin, Inc. (UEDA) | WI | 71,000
Wisconsin Partnership for Housing Development, Inc | WI | 134,000
Total CHDO |  | 6,001,502
State of Alaska Housing Finance Corporation | AK | 45,000
Rural Community Assistance Corporation | CA | 525,000
Dennison Associates | DC | 1,560,000
National Association of Housing and Redevelopment Officials (NAHRO) | DC | 994,160
Enterprise Community Partners | MD | 400,000
Michigan State Housing Development Authority | MI | 175,000
Minnesota Housing Partnership | MN | 100,000
Training & Development Associates, Inc | NC | 1,310,000
New Mexico Mortgage Finance Authority | NM | 50,000
Ohio Capital Corporation for Housing | OH | 150,000
Capital Access, Inc | PA | 525,000
Puerto Rico Community Foundation | PR | 65,000
ICF Incorporated, L.L.C | VA | 1,330,000
ICF Incorporated, L.L.C | VA | 670,000
Common Ground | WA | 45,000
Community Frameworks (aka Northwest Regional Facilitators) | WA | 30,000
Total HOME |  | 7,974,160
HomeBase/The Center for Common Concerns | CA | 150,000
Dennison Associates | DC | 244,500
Illinois Community Action Association | IL | 65,000
Abt Associates | MA | 2,150,000
Technical Assistance Collaborative, Inc | MA | 305,000
University of Massachusetts at Boston | MA | 75,000
Cloudburst Consulting Group, Inc | MD | 1,350,000
Enterprise Community Partners | MD | 75,000
Training & Development Associates, Inc | NC | 829,000
New Mexico Coalition to End Homelessness | NM | 40,000
Corporation for Supportive Housing | NY | 265,000
Supportive Housing Network of New York | NY | 140,000
Coalition on Homelessness and Housing in Ohio | OH | 55,125
Partnership Center, Ltd | OH | 14,875
Homeless Network of Texas dba Texas Homeless Network | TX | 85,000
ICF Incorporated, L.L.C | VA | 656,500
Total Homeless |  | 6,500,000
AIDS Housing Corporation | MA | 210,000
Training & Development Associates, Inc | NC | 270,000
ICF Incorporated, L.L.C | VA | 250,000
AIDS Housing of Washington | WA | 207,355
Total HOPWA |  | 937,355
Grand Total |  | 20,683,017

[FR Doc. E8-13696 Filed 6-17-08; 8:45 am]

BILLING CODE 4210-67-P